NUCLEAR REGULATORY COMMISSION

Sunshine Act Meeting.

AGENCY Nuclear Regulatory Commission.

DATES: Weeks of May 13, 20, 27, June 3, 10, 17, 2002.

Place: Commissioners' Conference Room, 11555 Rockville Pike, Rockville, Maryland.

Status: Public and Closed.

Matters To Be Considered:

Week of May 13, 2002

Thursday, May 16, 2002

9:25 a.m.

Affirmation Session (Public Meeting) (if needed)

9:30 a.m.

Meeting with World Association of Nuclear Operators (WANO) (Public Meeting)

This meeting will be webcast live at the Web address www.nrc.gov.

11 a.m.

Discussion of Security Issues (Closed—Ex.1)

2 p.m.

Discussion of Intragovernmental Issues (Closed—Ex. 9)

Week of May 20, 2002—Tentative

There are no meetings scheduled for the Week of May 20, 2002.

Week of May 27, 2002—Tentative

Tuesday, May 28, 2002

9:30 a.m.

Discussion of Security Issues (Closed—Ex. 1)

Wednesday, May 29, 2002

9:25 a.m.

Affirmative Session (Public Meeting), (if needed)

9:30 a.m.

Briefing on the Status of New Reactor Licensing Activities (Public Meeting) (Contact: Joseph Williams, 301-415-1470)

This meeting will be webcast live at the Web address www.nrc.gov.

Week of June 3, 2002—Tentative

Thursday, June 6, 2002

2 p.m.

Briefing on Strategic Workforce Planning and Human Capital Initiatives (Closed—Ex. 2)

Week of June 10, 2002—Tentative

There are no meetings scheduled for the Week of June 10, 2002.

Week of June 17, 2002—Tentative

There are no meetings scheduled for the Week of June 17, 2002.

The schedule for Commission meetings is subject to change on short notice. To verify the status of meetings call (recording)—(301) 415—1292. Contact person for more information: David Louis Gamberoni (301) 415-1651.

ADDITIONAL INFORMATION: By a vote of 5-0 on May 6 and 7, the Commission determined pursuant to U.S.C. 552b(e) and § 9.107(a) of the Commission's rules that “Discussion of Security Issues (Closed—Ex.1)” be held on May 16, and on less than one week's notice to the public.

The NRC Commission Meeting Schedule can be found on the Internet at: www.nrc.gov/what-we-do/policy-making/schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 9, 2002.
David Louis Gamberoni,
Technical Coordinator, Office of the Secretary.

[FR Doc. 02-12118 Filed 5-10-02; 12:09 pm]

BILLING CODE 7590-01-M